DEPARTMENT OF LABOR

Office of the Secretary

Submission for OMB Review: Comment Request

October 28, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Mine Safety and Health Administration (MSHA), Office of Management and Budget, 725 17th Street, NW., Room 10235, Washington, DC 20503, Telephone: 202-395-4816/Fax: 202-395-5806 (these are not toll-free numbers), E-mail: OIRA_submission@omb.eop.gov within 30 days from the date of this publication in the Federal Register. In order to ensure the appropriate consideration, comments should reference the applicable OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title of Collection: Main Fan Operation and Inspection.

OMB Control Number: 1219-0030.

Form Number: N/A.

Estimated Number of Respondents: 6.

Estimated Total Annual Burden Hours: 1,980.

Estimated Total Annual Cost Burden (does not include hourly wage costs): $1,200.

Affected Public: Business or other for profits (mines).

Description: Main fans for all underground metal and nonmetal gassy mines must have pressure-recording systems. The fans are required to be examined daily while operating if persons are underground. The pressure-recording systems indicate whether the fans are in good operating condition. 30 CFR 57.22204 requires the pressure recordings to be kept one year. Information collected through the pressure recordings has been and is used by mine operators and MSHA for maintaining a constant vigilance on mine ventilation and for ensuring that unsafe conditions are identified early and corrected. Technical consultants may occasionally review such information in addressing main fan or ventilation problems. For additional information, see related notice published at Vol. 74 FR 40610 on August 12, 2009.

Agency: Mine Safety and Health Administration.

Type of Review: Extension without change of currently approved collection.

Title of Collection: Escape and Evacuation Plan (Pertains to Surface Coal Mines & Surface Work Areas of Underground Coal Mines).

OMB Control Number: 1219-0051.

Form Number: N/A.

Estimated Number of Respondents: 351.

Estimated Total Annual Burden Hours: 1,695.

Estimated Total Annual Cost Burden (does not include hourly wage costs): $0.

Affected Public: Business or other for profits (mines).

Description: The Department's regulations at 30 CFR 77.1101 require operators of surface coal mines, including surface facilities, and surface work areas of underground coal mines to establish and keep current a specific escape and evacuation plan to be followed in the event of a fire. The plan is used to instruct employees in the proper method of exiting work areas in the event of a fire. The escape and evacuation plan is prepared by the mine operator and is used by mines, MSHA, and persons involved in rescue and recovery. The plan is used to instruct employees in the proper methods of exiting structures in the event of a fire. MSHA inspection personnel use the plan to determine compliance with the standard requiring a means of escape and evacuation be established and the requirement that employees be instructed in the procedures to follow should a fire occur. For additional information, see related notice published at Vol. 74 FR 40611 on August 12, 2009.

Agency: Mine Safety and Health Administration.

Type of Review: Extension without change of currently approved collection.

Title of Collection: Records of Preshift and Onshift Inspections of Slope and Shaft Areas. (Pertains to slope and shaft sinking operations at coal mines).

OMB Control Number: 1219-0082.

Form Number: N/A.

Estimated Number of Respondents: 35.

Estimated Total Annual Burden Hours: 14,823.

Estimated Total Annual Cost Burden (does not include hourly wage costs): $0.

Affected Public: Business or other for profits (mines).

Description: The Department's regulations at 30 CFR 77.1901 require coal mine operators to conduct inspections of slope and shaft areas of hazardous conditions, including tests for methane and oxygen deficiency, before and during each shift and before and after blasting. Records of the results of the inspections are required to be kept. The records are used by slope and shaft supervisors and employees, State mine inspectors, and Federal mine inspectors. The records show that the examinations and tests were conducted and give insight into the hazardous conditions that have been encountered and those that may be encountered. The records of inspections greatly assist those who use them in making decisions that will ultimately affect the safety and health of slope and shaft sinking employees. For additional information, see related notice published at Vol. 74 FR 40612 on August 12, 2009.

Darrin A. King,
Departmental Clearance Officer.

[FR Doc. E9-26362 Filed 11-2-09; 8:45 am]

BILLING CODE 4510-43-P